DEPARTMENT OF EDUCATION

[Docket No.: ED-2025-SCC-0382]

Agency Information Collection Activities; Comment Request; Integrated Postsecondary Education Data System (IPEDS) 2024-25 Through 2026-27

AGENCY: National Center for Education Statistics (NCES), Institute of Education Sciences (IES), Department of Education (ED).

ACTION: Notice.

SUMMARY: In accordance with the Paperwork Reduction Act (PRA) of 1995, the Department is proposing a revision of a currently approved information collection request (ICR).

DATES: Interested persons are invited to submit comments on or before October 14, 2025.

ADDRESSES: To access and review all the documents related to the information collection listed in this notice, please use http://www.regulations.gov by searching the Docket ID number ED-2025-SCC-0382. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the National Center for Education Statistics, Institute of Education Sciences, U.S. Department of Education, 400 Maryland Ave. SW, LBJ, Room 5C133, Washington, DC 20202-1200.

FOR FURTHER INFORMATION CONTACT: For specific questions related to collection activities, please contact Matthew Soldner, NCESCommissioner@ed.gov.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. In addition to the Directed Questions below, the Department is especially interested in public comment addressing the following issues: (1) is the estimated burden of the data collection accurate; (2) how might the Department enhance the quality, utility, and clarity of the information to be collected; and (3) how might the Department minimize the burden of this collection on the respondents, including through the use of information technology. Please note that written comments received in response to this notice will be considered public records.

Title of Collection: Integrated Postsecondary Education Data System (IPEDS) 2024-25 through 2026-27.

OMB Control Number: 1850-0582.

Type of Review: A revision of a currently approved ICR.

Respondents/Affected Public: Private Sector; State, Local, and Tribal Governments.

Total Estimated Number of Annual Responses: 65,868.

Total Estimated Number of Annual Burden Hours: 740,511.

Abstract: In 2023, the Supreme Court ruled in Students for Fair Admissions v. President and Fellows of Harvard College (SFFA v. Harvard) that discrimination on the basis of race in admissions violates the Equal Protection Clause of the Fourteenth Amendment and Title VI of the Civil Rights Act of 1964. Despite the ruling in SFFA, the continued widespread emphasis on “diversity, equity, and inclusion” (DEI) in higher education causes concerns that unlawful practices may persist because DEI has been used as a pretext to advance overt and insidious racial discrimination. The federal government does not currently collect racial data on admissions and scholarships and has limited tools to ensure widescale compliance with Title VI. Greater transparency through the collection of this type of information will help to expose unlawful practices, enable the Department to better enforece Title VI, and create good incentives for voluntary compliance.

To address these concerns, President Donald J. Trump issued a Presidential Memorandum on August 7, 2025 entitled “Ensuring Transparency in Higher Education Admissions,” available at https://www.whitehouse.gov/presidential-actions/2025/08/ensuring-transparency-in-higher-education-admissions/. In that memorandum, President Trump directed the Secretary of Education to, within 120 days of that date, “expand the scope of required [IPEDS] reporting to provide adequate transparency into admissions.” On that same day, Secretary McMahon issued a directive to NCES to initiate a series of changes to IPEDS during the 2025-26 school year. That directive is available at https://www.ed.gov/media/document/secretary-directive-ensuring-transparency-higher-education-admissions-august-7-2025-110497.pdf. The data to be collected from this effort will capture information that could indicate whether institutions of higher education are using race-based preferencing in their admissions processes.

As such, in this submission, we are requesting to add the new IPEDS “Admissions and Consumer Transparency Supplement” (ACTS) survey component. This component is expected to be applicable to all four-year institutions who utilize selective college admissions, as these institutions have an elevated risk of noncompliance with the civil rights laws. Likewise, these institutions have a higher risk of noncompliance in awarding scholarships because of their selectivity. Open-access institutions, such as community colleges and trade schools, have minimal or no risk for civil rights noncompliance in admssions because they admit all (or the vast majority of) students who apply. These institutions may present some risk of noncompliance in awarding scholarships. A Directed Question about the scope of this survey component appears below.

The ACTS component will collect data separately for undergraduate and graduate students. For undergraduate students, we anticipate the component will collect data by race-sex pair on: (1) the count of institutions’ applied, admitted, and enrolled cohorts, both overall and further disaggregated by admission test score quintiles, GPA quintiles, ranges of family income, Pell Grant eligibility, and parental education; (2) the average high school grade point average and admission test score quintiles for institutions’ applied, admitted, and enrolled cohorts; (3) the count of students admitted via early action, early decision, or regular admissions.

Among newly enrolled undergraduate students, we anticipate the ACTS component will collect data by race-sex pair on both the count and average amount of students receiving: (1) any institutional grant aid, (2) merit-based institutional grant aid, (3) need-based institutional grant aid and (4) any local, state, or federal government aid overall, and further disaggregated by admission test score quintiles, GPA quintiles, ranges of family income, and enrollment via early action, early decision, or regular admissions.

We anticipate the ACTS component will also collect data overall and by race-sex pair on (1) students’ average cumulative GPA at the end of the academic year; (2) the average cost of attendance, and further disaggregated by admission test score quintiles, ranges of high school grade point average, ranges of family income, and enrollment via early action, early decision, or regular admissions. (3) graduation rates further disaggregated by admission test score quintiles and ranges of high school grade point average; and (4) graduates’ final cumulative grade point average. Additional data may be gathered to better understand remedial or other non-credit coursework for newly enrolled students.

For graduate students, many of the same data elements identified above are anticipated. However, data on graduate students will be further disaggregated by broad fields of study defined by the following CIP codes: Arts & Humanities (CIP codes: 4, 5, 16, 23, 24, 30, 38, 39, 50, 54); Education (CIP code: 13); Public Service (CIP codes: 25, 42, 43, 44); Agriculture, Consumer Services, and Trades (CIP codes: 1, 3, 9, 10, 12, 19, 31, 46, 47, 48, 49); Business (CIP code: 52); Other Social Sciences (CIP codes: 45.01, 45.02, 45.03, 45.04, 45.05, 45.07, 45.09, 45.11, 45.12, 45.13, 45.14, 45.99); Economics/Political Science (CIP codes: 45.06, 45.10); STEM (CIP codes: 11, 14, 15, 26, 27, 28, 29, 40, 41); Health (CIP code: 51); Medical Residencies (CIP code: 60.02, 60.04, 60.05); Other Residency Programs (60.01, 60.03, 60.06); Law (CIP code: 22). Graduate programs are to be broken down by fields of study due to the fact that applicants apply directly to institutional departments based on their field of study.

In the 2025-26 survey only, the new component will seek to capture data not only from the 2025-26 academic year but also from the five prior academic years. Data will be collected from the five prior academic years to establish a baseline of admissions practices from before the Supreme Court decision in SFFA v. Harvard. This baseline is crucial to helping to track racial changes in admissions practices. Data alone is not determinative as to whether institutions are engaging in unlawful discrimination, but the Department may use data to develop risk-based enforcement practices. As such, in the 2025-26 survey, institutions should anticipate providing admissions data for the 2020-21 through 2025-26 academic years. Similarly, graduation rates reported in the 2025-26 survey should cover not only academic year 2024-25, but also academic years 2019-20 through 2023-24.

Directed Questions. The Department invites you to submit all aspects of the proposed data collection. We are particularly interested in commenters’ feedback on the questions listed below.

(1) Applicable Institutions. The Department is interested in feedback pertaining to the types of institutions required to complete the ACTS component, including whether there are other objective characteristics that the Department could use to identify institutions that have a low-risk or high-risk of noncompliance with Title VI. In addition, the Department is interested in feedback regarding whether open-enrollment institutions are at-risk of noncompliance with respect to scholarship awarding practices that provide preferential treatment based upon race. Feedback received will help to inform us as to whether we should narrow or expand the scope of institutions required to complete the ACTS component.

(2) Time Burden. The Department is interested in feedback pertaining to the anticipated amount of time it will take for your institution to compile and submit the anticipated data elements in ACTS.

Brian Fu,
Acting Chief Data Officer Office of Planning, Evaluation and Policy Development.

[FR Doc. 2025-15536 Filed 8-13-25; 8:45 am]

BILLING CODE 4000-01-P